DEPARTMENT OF JUSTICE

Antitrust Division

Notice Pursuant to the National Cooperative Research and Production Act of 1993—Semiconductor Test Consortium, Inc.

Correction

In notice document 05-13531 beginning on page 39796 in the issue of Monday, July 11, 2005, make the following correction:

On page 39796, in the third column, in the last line “(69 FR 35913)” should read “(68 FR 35913)”.

[FR Doc. C5-13531 Filed 10-4-05; 8:45 am]

BILLING CODE 1505-01-D

DEPARTMENT OF TRANSPORTATION

Federal Aviation Administration

14 CFR Part 39

[Docket No. FAA-2005-21170; Directorate Identifier 2002-NM-124-AD; Amendment 39-14298; AD 2005-20-05]

RIN 2120-AA64

Airworthiness Directives; Boeing Model 767-200 and 767-300 Series Airplanes

Correction

In rule document 05-19227 beginning on page 56821 in the issue of Thursday, September 29, 2005 make the following correction:

§ 39.13 [Corrected]

On page 56823, in § 39.13(a), in the first column, under the heading Effective Date, “October 31, 2005,” should read, “November 3, 2005.”

[FR Doc. C5-19227 Filed 10-4-05; 8:45 am]

BILLING CODE 1505-01-D